DEPARTMENT OF THE INTERIOR

National Park Service

Announcement of Subsistence Resource Commission Meeting

AGENCY: National Park Service, Interior.

SUMMARY: Notice is here by given in accordance with the Federal Advisory Committee Act that a meeting of the Subsistence Resource Commission for Cape Krusenstern National Monument will be held at Kotzebue, Alaska. The purpose of the meeting will be to review Federal Subsistence Board wildlife proposals and continue work on National Park Service subsistence hunting program recommendations including other related subsistence management issues. The meeting will be open to the public. Any person may file with the Commission a written statement concerning the matters to be discussed.

The Subsistence Resource Commissions are authorized under Title VIII, section 808, of the Alaska National Interest Lands Conservation Act, Public Law 96-487, and operates in accordance with the provisions of the Federal Advisory Committee Act.

DATES: The meeting will be held from 8:30 a.m. to 5 p.m. on Thursday April 1, 2004, at the U.S. Fish and Wildlife Service conference room in Kotzebue, Alaska.

GSA regulations (41 CFR 102-3.150) governing advisory committee meetings allow us, in exceptional circumstances, to give less than 15 days advance notice prior to an advisory committee meeting. It is necessary for us to publish this notice less than 15 days prior to the meeting so that the work of the committee can be made available for consideration at subsequent meetings of the regional subsistence advisory council and the Federal Subsistence Board. We were not aware sufficiently in advance of the need to more closely coordinate the scheduling of the meetings.

FOR FURTHER INFORMATION CONTACT: Superintendent, Julie Hopkins and Willie Goodwin at (907) 442-3890, Ken Adkisson at (800) 471-2352, or (907) 443-2522.

SUPPLEMENTARY INFORMATION: Notice of this meeting will be published in local newspapers and announced on local radio stations prior to the meeting dates. Locations and dates may need to be changed based on weather or local circumstances.

The following agenda items will be discussed:

Welcome—Introduction of commission members and guests.

1. Review and approve agenda.

2. Review and approve minutes from last meeting.

3. Review Commission purpose and status of membership.

4. Superintendent's Report—Status of Hunting Plan Recommendations.

5. Update—Review Federal Subsistence Board—Wildlife Issues.

6. Update—Review Federal Subsistence Board—Fisheries Issues.

7 .Public and agency comments.

8. SRC work session develop recommendations on issues.

9. Identify agenda topics, set time and place of next SRC meeting.

10. Adjournment.

Draft minutes will be available for public inspection approximately six weeks after the meeting from: Superintendent Western Arctic National Parklands, Alaska Region, P.O. Box 1029, Kotzebue, AK 99752.

Dated: March 3, 2004.
Marcia Blaszak,
Acting Regional Director, Alaska.

[FR Doc. 04-5933 Filed 3-16-04; 8:45 am]

BILLING CODE 4310-HK-P